DEPARTMENT OF COMMERCE

International Trade Administration

The Manufacturing Council: Meeting of the Manufacturing Council

AGENCY: International Trade Administration, U.S. Department of Commerce.

ACTION: Notice of a meeting via teleconference.

SUMMARY: The Manufacturing Council will hold a meeting via teleconference to deliberate a draft letter of recommendation to the Secretary of Commerce.

DATES: December 15, 2009.

Time: 1 p.m. (ET).

For the Conference Call-In Number and Further Information, Please Contact: The Manufacturing Council Executive Secretariat, Room 4043, Washington, DC, 20230 (Phone: 202-482-4501), or e-mail the Executive Secretary at Marc.Chittum@trade.gov.

Dated: December 7, 2009.
J. Marc Chittum,
Executive Secretary, The Manufacturing Council.

[FR Doc. E9-29599 Filed 12-8-09; 4:15 pm]

BILLING CODE 3510-DR-P